DEPARTMENT OF HOMELAND SECURITY

Coast Guard

33 CFR Part 1; 46 CFR Parts 1 and 10

[USCG-2006-25535]

RIN 1625-ZA09

Mariner Licensing and Documentation Program Restructuring and Centralization; Correction

AGENCY: Coast Guard, DHS.

ACTION: Correcting Amendment.

SUMMARY: The Coast Guard is correcting a technical amendment that appeared in the Federal Register on August 21, 2006. That technical amendment authorized the Commanding Officer of the National Maritime Center (NMC) to perform certain mariner credentialing functions in addition to Officers in Charge, Marine Inspection, who currently perform those functions. At the end of a transitional period, most credentialing functions will be consolidated at a centralized location. The technical amendment also made technical changes to the mariner credentialing appellate process.

DATES: These changes are effective March 26, 2007.

FOR FURTHER INFORMATION CONTACT: If you have questions on this amendment, call Mr. Gerald Miante, Project Manager, Maritime Personnel Qualifications Division (CG-3PSO-1), U.S. Coast Guard, telephone 202-372-1407. If you have questions on viewing the docket, call Ms. Renee V. Wright, Program Manager, Docket Operations, telephone 202-493-0402.

SUPPLEMENTARY INFORMATION:

Background and Purpose

The Coast Guard is correcting a technical amendment that appeared in the Federal Register on August 21, 2006 (71 FR 48480). That technical amendment authorized the Commanding Officer of the NMC to perform certain mariner credentialing functions in addition to Officers in Charge, Marine Inspection, who currently perform those functions. At the end of a transitional period, most credentialing functions will be consolidated at a centralized location. The technical amendment also made technical changes to the mariner credentialing appellate process. The technical amendment, and this correcting amendment, are organizational in nature and will have no substantive effect on the regulated public.

This correction clarifies the authority of the Commanding Officer of the NMC to carry out certain maritime safety functions; and reestablishes procedures for appeal of decisions of the National Vessel Documentation Center with a revised appellate authority.

List of Subjects

33 CFR Part 1

Administrative practice and procedure, Authority delegations (Government agencies), Freedom of information, Penalties.

46 CFR Part 1

Administrative practice and procedure, Organization and functions (Government agencies), Reporting and recordkeeping requirements.

46 CFR Part 10

Penalties, Reporting and recordkeeping requirements, Schools, Seamen.

Accordingly, 33 CFR part 1, and 46 CFR parts 1 and 10 are corrected by making the following correcting amendments:

33 CFR PART 1—GENERAL PROVISIONS

1. Revise the authority citation for subpart 1.01 to read as follows:

Authority: 14 U.S.C. 633; 33 U.S.C. 401, 491, 525, 1321, 2716, and 2716a; 42 U.S.C. 9615; 49 U.S.C. 322; Department of Homeland Security Delegation No. 0170.1; section 1.01-70 also issued under the authority of E.O. 12580, 3 CFR, 1987 Comp., p. 193; and sections 1.01-80 and 1.01-85 also issued under the authority of E.O. 12777, 3 CFR, 1991 Comp., p. 351.

2. In § 1.01-20, designate the existing paragraph as paragraph (a); revise the first sentence of newly designated paragraph (a); and add paragraph (b) to read as follows:

§ 1.01-20 Officer in Charge, Marine Inspection.

(a) Officers in Charge, Marine Inspection (OCMI), have been designated and delegated to perform, within each OCMI's jurisdiction, the following functions: * * *

(b) The Commanding Officer of the National Maritime Center has been designated and delegated the same authority as an OCMI for the purpose of carrying out the following marine safety functions pursuant to the provisions of 46 CFR Subchapter B:

(1) Licensing, credentialing, certificating, shipment and discharge of seamen;

(2) Referring to the processing Regional Examination Center (REC) or cognizant OCMI potential violations of law, negligence, misconduct, unskillfulness, incompetence or misbehavior of persons holding merchant mariner's documents, licenses, certificates or credentials issued by the Coast Guard, and recommending suspension or revocation under 46 U.S.C. Chapter 77 when deemed appropriate; and

(3) Granting, withholding, suspending, or withdrawing course approvals.

46 CFR PART 1—ORGANIZATION, GENERAL COURSE AND METHODS GOVERNING MARINE SAFETY FUNCTIONS

3. The authority citation for 46 CFR part 1 continues to read as follows:

Authority: 5 U.S.C. 552; 14 U.S.C. 633; 46 U.S.C. 7701; 46 U.S.C. Chapter 93; Pub.L. 107-296, 116 Stat. 2135; Department of Homeland Security Delegation No. 0170.1; § 1.01-35 also issued under the authority of 44 U.S.C. 3507.

4. In § 1.01-15, revise paragraphs (c) and (d) and add paragraphs (e) and (f) to read as follows:

§ 1.01-15 Organization; Districts; National Maritime Center.

* * * * *

(c) The Commanding Officer of the National Maritime Center has been designated and delegated to:

(1) Give direction to Coast Guard activities relating to marine safety functions consisting of the licensing, credentialing, certificating, shipment and discharge of seamen;

(2) Refer to the processing Regional Examination Center (REC) or cognizant OCMI potential violations of law, negligence, misconduct, unskillfulness, incompetence or misbehavior of persons holding merchant mariner's documents, licenses, certificates or credentials issued by the Coast Guard, and recommend suspension or revocation under 46 U.S.C. Chapter 77 when deemed appropriate; and

(3) Grant, withhold, suspend, or withdraw course approvals.

(d) The Commanding Officer of the National Maritime Center has the same authority as an OCMI for the purpose of carrying out the marine safety functions listed in paragraph (c) of this section pursuant to the provisions of Subchapter B of this chapter.

(e) Applicants for merchant mariner's documents, licenses, certificates or credentials may apply to the Coast Guard National Maritime Center or any of the Regional Examination Centers. Applicants may contact the National Maritime Center at 4200 Wilson Boulevard, Suite 630, Arlington, Virginia 22203-1804, or by telephone at 202-493-1002. A list of Regional Examination Locations is available through the Coast Guard Web site at http://www.uscg.mil.

(f) For descriptions of Coast Guard districts and marine inspection zones, see 33 CFR part 3.

5. In § 1.03-15, revise paragraph (h)(3) to read as follows:

§ 1.03-15 General.

* * * * *

(h) * * *

(3) Commandant (CG-3PC) for all appeals involving suspension or withdrawal of course approvals, all marine personnel issues appealed from the National Maritime Center or from an OCMI through a District Commander, and all appeals regarding the documentation of a vessel under part 67 or part 68 of this title. All appeals regarding the documentation of a vessel under part 67 or part 68 of this title must be addressed to Commandant CG-3PC(d), Coast Guard Headquarters, 2100 Second St., SW, Washington, DC 20593, and a copy of each such appeal must be sent to the National Vessel Documentation Center, 792 T J Jackson Drive; Falling Waters, WV 25419;

* * * * *

6. Redesignate § 1.03-45 as § 1.03-40, and add new § 1.03-45 to read as follows:

§ 1.03-45 Appeals from decisions or actions involving documentation of vessels.

Any person directly affected by a decision or action of an officer or employee of the Coast Guard acting on or in regard to the documentation of a vessel under part 67 or part 68 of this title, may make a formal appeal of that decision or action to the Director of Inspection and Compliance, Commandant (CG-3PC), in accordance with the procedures contained in § 1.03-15 of this subpart. The decision of the Director of Inspection and Compliance, Commandant (CG-3PC), on such an appeal will constitute final agency action.

46 CFR PART 10—LICENSING OF MARITIME PERSONNEL

7. The authority citation for 46 CFR part 10 continues to read as follows:

Authority: 14 U.S.C. 633; 31 U.S.C. 9701; 46 U.S.C. 2101, 2103, and 2110; 46 U.S.C. chapter 71; 46 U.S.C. 7502, 7505, 7701, and 8906; Executive Order 10173; Department of Homeland Security Delegation No. 0170.1. Section 10.107 is also issued under the authority of 44 U.S.C. 3507.

8. In Part 10, redesignate §§ 10.102 and 10.103 as §§ 10.103 and 10.104, respectively, and add new § 10.102 to read as follows:

§ 10.102 National Maritime Center

The Commanding Officer of the National Maritime Center has the same authority as an OCMI for the purpose of carrying out the marine safety functions listed in § 1.01-15(c) of this title pursuant to the provisions of this subchapter.

Dated: February 14, 2007.
Stefan G. Venckus,
Chief, Office of Regulations, and Administrative Law, United States Coast Guard.

[FR Doc. E7-2899 Filed 2-21-07; 8:45 am]

BILLING CODE 4910-15-P